DEPARTMENT OF THE TREASURY

Bureau of Alcohol, Tobacco and Firearms

[Docket No. 937; ATF O 1130.25]

Delegation Order—Delegation of the Director's Authorities in 27 CFR Part 29, Stills and Miscellaneous Regulations

To: All Bureau Supervisors.

1. Purpose. This order delegates all of the Director's authorities in part 29 of title 27 of the Code of Federal Regulations (CFR) to subordinate ATF officers. This order also prescribes the specific ATF officers with whom documents, which are not ATF forms, are filed.

2. Cancellation. This order cancels ATF O 1130.20, Delegation Order—Delegation of the Director's Authorities in 27 CFR part 170, Miscellaneous Regulations Relating to Liquor.

3. Background. The Director has the authority to take final action on matters relating to the manufacture, removal, and use of stills and condensers, and the notice, registration, and recordkeeping requirements established under Chapter 51 of the Internal Revenue Code of 1986, as amended. The Director has delegated these authorities to lower organizational levels within ATF by way of Delegation Order ATF O 1130.20. ATF is currently restructuring the part numbering system in title 27 CFR. The regulations relating to stills, previously located in 27 CFR part 170, are now recodified as 27 CFR part 29. Due to this restructuring, ATF O 1130.20 must be cancelled and a new order must be issued to reflect the new part number.

4. Delegations. Under the authority vested in the Director, Bureau of Alcohol, Tobacco and Firearms, by Treasury Department Order No. 120-1 (formerly 221), dated June 6, 1972, and by 26 CFR 301.7701-9, this ATF order delegates all of the authorities to take final action prescribed in 27 CFR part 29 to subordinate officers. Also, this ATF order prescribes the subordinate ATF officers with whom documents required by 27 CFR part 29, which are not ATF forms, are filed. The attached table identifies the regulatory sections, documents, and authorized ATF officers. The authorities in the table may not be redelegated. An ATF organization chart showing the directorates involved in this delegation order is attached.

5. Questions. Any questions concerning this order should be directed to the Regulations Division at 202-927-8210.

Bradley A. Buckles,
Director.

Table of Authorities, Documents To Be Filed, and Authorized Officials
Regulatory section | Officer(s) authorized to act or receive document
§ 29.43(a) | Chief, Regulations Division.
§ 29.47(a) & (c) | Unit Supervisor, National Revenue Center (NRC).
§ 29.49 | Unit Supervisor, NRC.
§ 29.55(a) | Unit Supervisor, NRC, with whom application is filed. Unit Supervisor, NRC, to approve (by affixing signature of the Director) application upon recommendation of Area Supervisor.
§ 29.55(c) | Unit Supervisor, National Revenue Center.
§ 29.59 | Inspector, Specialist, Auditor, or Special Agent.

[FR Doc. 02-3940 Filed 2-15-02; 8:45 am]

BILLING CODE 4810-31-P